FEDERAL MARITIME COMMISSION

Ocean Transportation Intermediary License Reissuances

The Commission gives notice that the following Ocean Transportation Intermediary license has been reissued pursuant to section 19 of the Shipping Act of 1984 (46 U.S.C. 40101).

License No.: 019923F.

Name: Tretaylor International, Inc.

Address: 2034 Rolling Hills Way, Rocky Face, GA 30740.

Date Reissued: May 28, 2014.

Sandra L. Kusumoto,
Director, Bureau of Certification and Licensing.

[FR Doc. 2014-15613 Filed 7-2-14; 8:45 am]

BILLING CODE 6730-01-P